FEDERAL COMMUNICATIONS COMMISSION

Notice of Public Information Collection(s) Being Reviewed by the Federal Communications Commission for Extension Under Delegated Authority, Comments Requested

May 27, 2010.

SUMMARY: The Federal Communications Commission, as part of its continuing effort to reduce paperwork burden invites the general public and other Federal agencies to take this opportunity to comment on the following information collection(s), as required by the Paperwork Reduction Act (PRA) of 1995, 44 U.S.C. 3501 - 3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden for small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before August 2, 2010. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via email to PRA@fcc.gov.

FOR FURTHER INFORMATION CONTACT: Judith B. Herman, Office of Managing Director, (202) 418-0214. For additional information, contact Judith B. Herman, OMD, 202-418-0214, or email judith-b.herman@fcc.gov].

SUPPLEMENTARY INFORMATION: OMB Control Number: 3060-1042.

Title: Request for Technical Support - Help Request Form.

Form No.: N/A - electronic support form.

Type of Review: Extension of a currently approved collection.

Respondents: Individuals or households; business or other for-profit, not-for-profit institutions, and state, local or tribal government.

Number of Respondents and Responses: 36,300 respondents, 36,300 responses.

Estimated Time Per Response: 8 minutes.

Frequency of Response: On occasion reporting requirement.

Obligation to Respond: Voluntary. There is no statutory authority for this information collection.

Total Annual Burden: 4,840 hours.

Total Annual Cost: $387,200.

Privacy Act Impact Assessment: Yes.

Nature and Extent of Confidentiality: Respondents may request materials or information submitted to the Commission be withheld from pubic inspection under 47 CFR 0.459 of the Commission's rules.

Needs and Uses: The Commission will submit this expiring information collection to the Office of Management and Budget (OMB) after this comment period to obtain the full three year clearance from them. There is no change in the Commission's burden or cost estimates. There is no change in the reporting requirement because the Commission is requesting an extension or renewal of this information collection.

The FCC's Wireless Telecommunications Bureau (WTB) maintains Internet software used by the public to apply for licenses, participate in auctions for spectrum, and maintain license information. In this mission, WTB has a “help desk” that answers questions related to these systems as well as resetting and/or issuing user passwords for access to these systems. The form currently is available on the website <http://esupport.fcc.gov/request.html> under this OMB control number.

The form electronically categories requests to allow for more efficient skill routing internally and continuing streamlining processes within the Commission. This increases the speed of disposal of these requests.

Customers may check the status of their request using a “request number” given to the user upon submission of the request on the website. This status include then name/number of the agent assigned to the ticket, and the ticket number. No privileged or confidential information is retrievable by this form.

Records may include information about individuals or households, and the use(s) and disclosure of this information is governed by the requirements of a system of records, FCC/WTB-7, “Remedy Action Request System (RARS)”. There are no additional impacts under the Privacy Act.

Federal Communications Commission.
Marlene H. Dortch,
Secretary,
Office of the Secretary,
Office of Managing Director.

[FR Doc. 2010-13323 Filed 6-2-10; 8:45 am]

BILLING CODE 6712-01-S